DEPARTMENT OF COMMERCE

International Trade Administration

[A-427-818]

Notice of Amended Final Results of Antidumping Duty Administrative Review: Low Enriched Uranium from France

AGENCY: Import Administration, International Trade Administration, Department of Commerce.

SUMMARY: On September 14, 2005, the Department of Commerce (the Department) published the final results of its second administrative review of the antidumping duty order on low enriched uranium (LEU) from France for the period February 1, 2003, through January 31, 2004. See Notice of Final Results of Antidumping Duty Administrative Review: Low Enriched Uranium from France, 70 FR 54359 (September 14, 2005). On September 14, 2005, in accordance with 19 CFR 351.224(c)(2), we received timely filed ministerial error allegations from respondent, Eurodif S.A., Compagnie Générale Des Matières Nucléaires, S.A. and COGEMA, Inc. (collectively, Eurodif/COGEMA), and the United States Enrichment Corporation and USEC Inc. (collectively, USEC or the petitioner). On September 19, 2005, we received rebuttal comments from Eurodif/COGEMA and the petitioner. Based on our analysis of the parties' comments, the Department has revised the antidumping duty margin for Eurodif/COGEMA. Accordingly, we are amending our final results.

EFFECTIVE DATE: October 21, 2005.

FOR FURTHER INFORMATION CONTACT: Myrna Lobo or Elfi Blum, AD/CVD Operations, Office 6, Import Administration, International Trade Administration, U.S. Department of Commerce, 14th Street & Constitution Avenue, NW, Washington, DC 20230; telephone: (202) 482-2371 or (202) 482-0197, respectively.

SUPPLEMENTARY INFORMATION:

Scope of the Order

The product covered by this order is all low enriched uranium (LEU). LEU is enriched uranium hexafluoride (UF6) with a U²³⁵ product assay of less than 20 percent that has not been converted into another chemical form, such as UO2, or fabricated into nuclear fuel assemblies, regardless of the means by which the LEU is produced (including LEU produced through the down-blending of highly enriched uranium).

Certain merchandise is outside the scope of this order. Specifically, this order does not cover enriched uranium hexafluoride with a U²³⁵ assay of 20 percent or greater, also known as highly enriched uranium. In addition, fabricated LEU is not covered by the scope of this order. For purposes of this order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of this order.

Also excluded from this order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end- user.

The merchandise subject to this order is currently classifiable in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Allegations of Ministerial Errors

On September 14, 2005, Eurodif/COGEMA and the petitioner each timely filed, pursuant to 19 CFR 351.224(c)(2), an allegation that the Department made one ministerial error in its final results of review. Respondent alleges that the Department made a ministerial error in the calculation of the constructed value (CV) profit. Petitioner alleges that the Department made a ministerial error in its application of the R&D adjustment factor to cost of manufacture (COM).

We have fully considered the parties' allegations and rebuttal comments. Our full analysis is contained in the Memorandum to Joseph A. Spetrini, Acting Assistant Secretary, from Gary Taverman, Acting Deputy Assistant Secretary, concerning the Amended Final Results of the Administrative Review of the Antidumping Duty Order on Low Enriched Uranium from France (2003-2004), Ministerial Error Allegations (October 14, 2005) which is on file in the Central Records Unit (CRU), room B-099 of the main Department building, and can be accessed directly on the Web at http://ia..ita.doc.gov. As a result of our analysis, we have corrected our calculations of CV profit.

Amended Final Results of Review

In accordance with 19 CFR 351.224(e), we have amended the final results of this administrative review to correct for the ministerial error. As a result of this correction, Eurodif/COGEMA's weighted-average margin has been amended as stated below.

Producer | Weighted-Average Margin (Percentage)
COGEMA/Eurodif | 9.75

Assessment

The Department will determine, and U.S. Customs and Border Protection (CBP) shall assess, antidumping duties on all appropriate entries, pursuant to 19 CFR 351.212(b). The Department calculated importer-specific duty assessment rates on the basis of the ratio of the total amount of antidumping duties calculated for the examined sales to the total entered value of the examined sales for that importer. Where the assessment rate is above de minimis, we will instruct CBP to assess duties on all entries of subject merchandise by that importer. The Department will not issue liquidation instructions for any entries of Eurodif/COGEMA merchandise until such time as the July 1, 2002, injunction issued by the Court of International Trade is lifted.

Cash Deposits

Furthermore, the following deposit requirements will be effective upon publication of these amended final results of this administrative review for all shipments of LEU from France entered, or withdrawn from warehouse, for consumption on or after the publication date of these amended final results, as provided by section 751(a) of the Tariff Act of 1930, as amended: (1) for companies covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results that covered that producer; and (4) if neither the exporter nor the producer is a firm covered in this review or in any previous segment of this proceeding, the cash deposit rate will be 19.95 percent, the “All Others” rate established in the less-than-fair-value investigation. These deposit requirements shall remain in effect until publication of the final results of the next administrative review.

Reimbursement

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

These amended final results are issued and published in accordance with sections 751(a) and (h) of the Act and 19 CFR 351.224.

Dated: October 14, 2005.
Joseph A. Spetrini,
Acting Assistant Secretary for Import Administration.

[FR Doc. E5-5820 Filed 10-20-05; 8:45 am]

BILLING CODE 3510-DS-S